DEPARTMENT OF LABOR

Employment and Training Administration

[TA-W-60,719]

Avondale Mills, Inc., Townsend Plant, Graniteville, SC; Notice of Termination of Investigation

Pursuant to Section 221 of the Trade Act of 1974, an investigation was initiated on January 9, 2007, in response to a petition filed by a State agency representative on behalf of workers of Avondale Mills, Inc., Townsend Plant, Graniteville, South Carolina.

The petitioner has requested that the petition be withdrawn. Consequently, further investigation in this case would serve no purpose, and the investigation has been terminated.

Signed in Washington, DC, this 23rd day of January, 2007.
Linda G. Poole,
Certifying Officer, Division of Trade Adjustment Assistance.

[FR Doc. E7-1474 Filed 1-30-07; 8:45 am]

BILLING CODE 4510-30-P